NATIONAL SCIENCE FOUNDATION

National Science Board and Its Subdivisions

Federal Register Citation of Previous Announcement: Volume 68, Number 220, Federal Register, pages 64661-64662, November 14, 2003.

Previously Announced Date and Time: Wednesday, November 19, 2003.

Additional Concurrent Session

Open

National Science Board, Ad Hoc Task Group on Long-Lived Data Collections, (2:30-3:30 p.m.), Room 1295.

Place: The National Science Foundation, 4201 Wilson Boulevard, Arlington, VA 22230, http://www.nsf.gov/nsb.

FOR FURTHER INFORMATION CONTACT: National Science Board Office (703) 202-7000.

Status: Open.

Changes in the Meeting: A one-hour open meeting was added to the agenda after the schedule was published on the Web and in the Federal Register. Public announcement of this additional session was made on the NSF Web site ahead of the meeting; no earlier notice was possible. The following topic was discussed.

Discussion: Possible Workshop on Users of Long-Lived Data Collections.

Michael P. Crosby,
Executive Officer, NSB.

[FR Doc. 03-30329 Filed 12-2-03; 4:22 pm]

BILLING CODE 7555-01-M